DEPARTMENT OF THE TREASURY

Internal Revenue Service

26 CFR Part 1

[REG-103115-00]

RIN 1545-AX90

Bad Debt Reserves of Thrift Institutions

AGENCY: Internal Revenue Service (IRS), Treasury.

ACTION: Withdrawal of proposed regulations.

SUMMARY: This document withdraws proposed regulations amending the income tax regulations. This action is taken to remove from the IRS' inventory of regulations projects certain proposed regulations that will not be published in final form because under a subsequent amendment the underlying statute does not apply to taxable years beginning after December 31, 1995.

DATES: These proposed regulations are withdrawn July 12, 2000.

FOR FURTHER INFORMATION CONTACT: Craig Wojay, of the Office of Assistant Chief Counsel, Financial Institutions and Products, Internal Revenue Service, 1111 Constitution Ave., NW., Washington, DC 20224. Telephone (202) 622-3920, (not a toll-free number).

SUPPLEMENTARY INFORMATION:

Background

This document withdraws certain proposed regulations previously published in the Federal Register by the IRS. These proposed regulations, §§ 1.593-12, 1.593-13, and 1.593-14, are being withdrawn because under a subsequent amendment the underlying statute, section 593, does not apply to subsections (a), (b), (c), and (d) to taxable years beginning after December 31, 1995.

Drafting Information

The principal author of this withdrawal notice is Craig Wojay, Office of the Assistant Chief Counsel (Financial Institutions and Products) within the Office of the Chief Counsel, IRS. However, other personnel from the IRS and the Treasury Department participated in developing the withdrawal notice.

List of Subjects in 26 CFR Part 1

Income taxes, Reporting and recordkeeping requirements.

Withdrawal of Proposed Amendments to the Regulations

Accordingly, under the authority of 26 U.S.C. 7805, the proposed rulemaking that was published in the Federal Register on Monday, January 13, 1992 (57 FR 1232) is withdrawn.

Robert Wenzel,
Deputy Commissioner of Internal Revenue.

[FR Doc. 00-17643 Filed 7-11-00; 8:45 am]

BILLING CODE 4830-01-U